INTERNATIONAL TRADE COMMISSION

Index and Description of Major Information Systems and Availability of Records

AGENCY: United States International Trade Commission.

ACTION: Notice announcing availability of public information.

SUMMARY: The United States International Trade Commission (USITC or Commission) provides notice of its index and description of major information systems and availability of its records.

FOR FURTHER INFORMATION CONTACT: Lisa R. Barton, Secretary to the Commission, telephone (202) 205-2000/2595 or Brian R. Battles, Esquire, Office of the General Counsel, United States International Trade Commission, telephone (202) 708-4737. Hearing-impaired individuals are advised that information on this matter can be obtained by contacting the Commission's TDD terminal at 202-205-1810. General information concerning the Commission may also be obtained by accessing its Web site at https://www.usitc.gov.

SUPPLEMENTARY INFORMATION: The Commission makes agency records available to the public in a number of ways:

Electronic Document Information System (EDIS). This system provides access to public documents filed in Title VII, Section 337, and other investigations before the Commission. EDIS is available to the public at https://edis.usitc.gov. All EDIS users must register and create an account and password to log-in and use EDIS.

Freedom of Information Act (FOIA). Commission records may also be requested under the FOIA (5 U.S.C. 552). These requests may be filed via the agency FOIA web portal at https://www.usitc.gov/secretary/foia/foiarequests.htm or with the Secretary at 500 E Street SW., Washington, DC 20436. A written FOIA request shall indicate clearly in the request letter, and on the envelope, that it is a “Freedom of Information Act Request.” Commission rules for requesting information under FOIA are set out in 19 CFR 201.17-201.21. Frequently requested FOIA-processed records can be accessed at https://www.usitc.gov/secretary/foia/foia_freqreqrecords.htm.

Harmonized Tariff Schedule of the United States (HTS). The USITC maintains and publishes the HTS pursuant to the omnibus Trade and Competitiveness Act of 1988. The Tariff Information Center, providing the current HTS and related materials, is available to the public at http://www.usitc.gov/tata/hts/index.htm.

Government Information Locator Service (GILS). The USITC has an entry in the GILS, at http://www.access.gpo.gov/su_docs/gils/index.html.

Libraries. The Commission maintains two libraries, its National Library of International Trade (the Commission's main reference library), located on the 3rd floor of the Commission building, and a law library, located on the 6th floor. Both are open to the public during normal business hours of 8:45 a.m. to 5:15 p.m. and are located at 500 E Street SW., Washington, DC 20436. The libraries contain, among other things, complete sets of Commission reports. To determine whether the respective libraries have the information sought, persons seeking information may call the main library at (202) 205-2630, or the law library at (202) 205-3287.

Public Reading Room. The Commission's public reading room is maintained and available for inspection in the Docket Services division of the Office of the Secretary. It is located on the 1st floor of the Commission building located at 500 E Street SW., Washington, DC 20436. Persons having questions regarding availability of records may contact Docket Services staff at (202) 205-1802. Depending on the age of the records requested, the files are available electronically or on microfiche.

Reports. Reports containing the findings and conclusions of Commission investigations and Commissioner opinions are available online at https://www.usitc.gov. Questions may be directed to the Office of the Secretary at (202) 205-2000/2595.

Rules. The Commission's Rules of Practice and Procedure set out the procedures used in Commission proceedings. The rules in 19 CFR parts 200-213 are located in the Code of Federal Regulations and available on the Commission's Web site at https://www.usitc.gov.

Tariff and Trade DataWeb. The Commission's DataWeb, https://dataweb.usitc.gov, provides public access to U.S. tariff and international trade data. Data from 1989 are available and can be retrieved in a number of classification systems.

USITC Web Site. Recent Commission notices, news releases, meeting agendas, general information “fact sheets,” Commissioner biographies, schedules of pending investigations (including hearing dates and deadlines for written submissions), reports, information frequently requested under FOIA, and general information about the Commission are available electronically through the Commission's Web site at https://www.usitc.gov. Copies of Commission public records can also be obtained from the Secretary.

By order of the Commission.
Issued: December 20, 2016.
Lisa R. Barton,
Secretary to the Commission.

[FR Doc. 2016-31069 Filed 12-23-16; 8:45 am]

BILLING CODE 7020-02-P